ENVIRONMENTAL PROTECTION AGENCY

[FRL-7929-5]

Notice of Proposed Administrative Settlement Pursuant to the Comprehensive Environmental Response, Compensation, and Liability Act

AGENCY: Environmental Protection Agency (EPA).

ACTION: Notice; request for public comment.

SUMMARY: In accordance with section 122(h)(1) of the Comprehensive Environmental Response, Compensation, and Liability Act, as amended (“CERCLA”), 42 U.S.C. 6922(h)(1), notice is hereby given of a proposed administrative settlement concerning the Custom Plating Superfund Site (Site). The Site is located within a warehouse complex at 3215 Peachtree, Suite 138, Balch Springs, Dallas County, Texas.

The settlement requires the Settling Party Peachtree Assets to pay a total of $120,000.00 for reimbursement of past response costs to the EPA Hazardous Substance Superfund. The settlement includes a covenant not to sue which includes, but is not limited to: (1) Any direct or indirect claim for reimbursement from the EPA Hazardous Substance Superfund pursuant to sections 106(b)(2), 107, 111, 112, and 113 of CERCLA, 42 U.S.C. 9606(b)(2), 9607, 9611, 9612, or 9613; (2) any claim arising out of the response actions at or in connection with the Site; and, (3) any claim against the United States pursuant to sections 107 and 113 of CERCLA, 42 U.S.C. 9607 and 9613, relating to the Site.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before July 28, 2005.

ADDRESSES: The proposed settlement and additional background information relating to the settlement are available for public inspection at 1445 Ross Avenue, Dallas, Texas 75202-2733. A copy of the proposed settlement may be obtained from Dan Hochstetler, 1445 Ross Avenue, Dallas, Texas 75202-2733 at (214) 665-6569. Comments should reference the Custom Plating Superfund Site, Balch Springs, Texas, EPA Docket Number CERCLA 6-09-05 and should be addressed to Dan Hochstetler at the address listed above.

FOR FURTHER INFORMATION CONTACT: Gloria Moran, 1445 Ross Avenue, Dallas, Texas 75202-2733 at (214) 665-3193.

Dated: June 20, 2005.
Richard E. Greene,
Regional Administrator, Region 6.

[FR Doc. 05-12711 Filed 6-27-05; 8:45 am]

BILLING CODE 6560-50-P